DEPARTMENT OF JUSTICE

Notice of Lodging Proposed Consent Decree

In accordance with Departmental Policy, 28 CFR 50.7, notice is hereby given that a proposed Consent Decree in United States v. Northstar Materials, Inc. (d/b/a Knife River Materials) & Knife River Corporation, Civil No. 0:11-cv-01950-RHK-LIB, was lodged with the United States District Court for the District of Minnesota on July 18, 2011.

This proposed Consent Decree concerns a complaint filed by the United States against Defendants, pursuant to Sections 301, 309 and 404 of the Clean Water Act, 33 U.S.C. 1311, 1319 and 1344 to obtain injunctive relief and impose civil penalties against the Defendants for violating the Clean Water Act by discharging fill material into waters of the United States. The proposed Consent Decree resolves these allegations by requiring the Defendants to restore the impacted areas and/or perform mitigation and to pay a civil penalty. The Department of Justice will accept written comments relating to this proposed Consent Decree for thirty (30) days from the date of publication of this Notice. Please address comments to Ana H. Voss, Assistant United States Attorney, United States Attorney's Office, District of Minnesota, 600 United States Courthouse, 300 South Fourth Street, Minneapolis, Minnesota 55415 and refer to U.S.A.O. file number 2010v00217 and DJ #90-5-1-1-18739.

The proposed Consent Decree may be examined at the Clerk's Office of the United States District Court for the District of Minnesota, 300 South Fourth Street, Suite 202, Minneapolis, Minnesota 55415. In addition, the proposed Consent Decree may be viewed at http://www.usdoj.gov/enrd/Consent_Decrees.html.

Cherie L. Rogers,
Assistant Section Chief, Environmental Defense Section, Environment & Natural Resources Division.

[FR Doc. 2011-18659 Filed 7-22-11; 8:45 am]

BILLING CODE P